NUCLEAR REGULATORY COMMISSION

[Docket No. 50-302]

Florida Power Corporation, et al.; Notice of Consideration of Issuance of Amendment to Facility Operating License, Proposed No Significant Hazards Consideration Determination, and Opportunity for a Hearing; Correction

AGENCY: Nuclear Regulatory Commission.

ACTION: Notice of Issuance; Correction.

SUMMARY: This document corrects a notice appearing in the Federal Register on January 15, 2008 (73 FR 2553), which informed the public that the NRC issued Amendment No. 228 to Facility Operating License No. DPR-72 for Crystal River Unit No. 3 Nuclear Generating Plant. This action is necessary to correct the date of issuance.

FOR FURTHER INFORMATION CONTACT: Stewart N. Bailey, Office of Nuclear Reactor Regulation, U.S. Nuclear Regulatory Commission, Washington, DC 20555-0001; telephone (301) 415-1321, e-mail: SNB@nrc.gov.

SUPPLEMENTARY INFORMATION: On page 2554, appearing near the top of the first column, after Date of Issuance: the date is corrected to read December 26, 2007.

Dated in Rockville, Maryland, this 28th day of January 2008.
For the Nuclear Regulatory Commission.
Stewart N. Bailey,
Senior Project Manager, Plant Licensing Branch II-2, Division of Operating Reactor Licensing, Office of Nuclear Reactor Regulation.

[FR Doc. E8-1945 Filed 2-1-08; 8:45 am]

BILLING CODE 7590-01-P